DEPARTMENT OF COMMERCE

Bureau of Industry and Security

[Docket No. 201214-0339]

RIN 0694-XC069

Notice of Termination National Security Investigation of Imports of Mobile Cranes

AGENCY: Office of Technology Evaluation, Bureau of Industry and Security, U.S. Department of Commerce.

ACTION: Notice of termination of investigation.

SUMMARY: In this notice, the Department is announcing that on November 23, 2020, the Secretary of Commerce terminated an investigation under section 232 of the Trade Expansion Act of 1962, as amended, which was initiated on May 19, 2020, to determine whether imports of mobile cranes threatened to impair the national security. Notice of the investigation and a request for public comments was published in the Federal Register on May 26, 2020. The investigation was originally requested in an application submitted by the Manitowoc Company, Inc. (“Manitowoc”) on December 19, 2019.

DATES: The investigation was terminated on November 23, 2020.

ADDRESSES: Documents related to this investigation are available through the Federal eRulemaking Portal: https://www.regulations.gov under docket number BIS-2020-0009.

FOR FURTHER INFORMATION CONTACT:

For questions regarding this notice, contact Erika Maynard, Industrial Studies Division, Office of Technology Evaluation, Bureau of Industry and Security, U.S. Department of Commerce, (202) 482-0194, Mobilecranes232@bis.doc.gov. For more information about the section 232 program, including the regulations and the text of previous investigations, please see www.bis.doc.gov/232.

SUPPLEMENTARY INFORMATION:

Background

On November 23, 2020, the Secretary of Commerce terminated an investigation under section 232 of the Trade Expansion Act of 1962, as amended, which was initiated on May 19, 2020, to determine whether imports of mobile cranes threatened to impair the national security. Notice of the investigation and a request for public comments was published in the Federal Register on May 26, 2020 (85 FR 31439). The investigation was originally requested in an application submitted by the Manitowoc Company, Inc. (“Manitowoc”) on December 19, 2019.

On September 8, 2020, the Bureau of Industry and Security (BIS) received a formal request from Manitowoc to withdraw its application and terminate the investigation. Manitowoc stated that the current economic environment is very different from when Manitowoc submitted the application in December 2019, given the effects of the COVID-19 pandemic. The Secretary of Commerce has evaluated the request to withdraw and has determined that it is appropriate to terminate the investigation.

Matthew S. Borman,
Deputy Assistant Secretary for Export Administration.

[FR Doc. 2020-27863 Filed 12-17-20; 8:45 am]

BILLING CODE 3510-33-P